DEPARTMENT OF HEALTH AND HUMAN SERVICES

Centers for Disease Control and Prevention

[60Day-03-108]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: NIOSH Training Grants, 42 CFR part 86, Application and Regulations (OMB NO. 0920-0261)—Extension—National Institute for Occupational Safety and Health (NIOSH), Centers for Disease Control and Prevention (CDC).

Public Law 91-596 requires CDC/NIOSH to provide an adequate supply of professionals to carry out the purposes of the Act to assure a safe and healthful work environment. NIOSH supports educational programs through training grant awards to academic institutions for the training of industrial hygienists, occupational physicians, occupational health nurses, safety professionals and other professionals in related disciplines, such as occupational epidemiologists. Grants are provided to 16 Education and Research Centers (ERCs) which provide multidisciplinary graduate academic and research training for professionals, continuing education for practicing professionals and outreach programs in the Region. There are also 40 Training Project Grants (TPGs), which provide single discipline academic and technical training throughout the country. 42 CFR part 86, “Grants for Education Programs in Occupational Safety and Health, subpart B—Occupational Safety and Health Training,” provides guidelines for implementing Public Law 91-596.

The training grant application form (CDC2.145.A) is used by NIOSH to collect information from applicants submitting new competing applications and from existing applicants for submitting competing renewal grants. The information is used to determine the eligibility of applicants for grant review and by peer reviewers during the peer review process to evaluate the merit of the proposed training project. CDC Form 2.145B is used for non-competing awards to judge the annual progress of the applicant during the approved project period.

Extramural training grant awards are made annually following an extramural review process of the training grant applications including a Special Emphasis Panel, review by an internal Training Grants Council, and an internal review of non-competing applicants. The estimated annualized burden is 10,631 hours.

Respondents | Number of respondents | Number of responses/respondent | Avg. burden per response (in hrs.) | Total burden (in hrs.)
Universities | 77 | 1 | 8,284/60 | 10,631

Dated: August 13, 2003.
Nancy E. Cheal,
Acting Associate Director for Policy, Planning and Evaluation, Centers for Disease Control and Prevention.

[FR Doc. 03-21157 Filed 8-18-03; 8:45 am]

BILLING CODE 4163-18-P